DEPARTMENT OF HEALTH AND HUMAN SERVICES

National Institutes of Health

Center for Scientific Review; Amended Notice of Meeting

Notice is hereby given of a change in the meeting of the Center for Scientific Review Special Emphasis Panel, November 12, 2002, 1:10 pm to November 12, 2002, 3:30 pm, which was published in the Federal Register on October 28, 2002, 67 FR 65807-65809.

The meeting will be held December 2, 2002, from 3 pm to 5 pm. The location remains the same. The meeting is closed to the public.

Dated: November 7, 2002.
LaVerne Y. Stringfield,
Director, Office of Federal Advisory Committee Policy.

[FR Doc. 02-29256 Filed 11-18-02; 8:45 am]

BILLING CODE 4140-01-M